DEPARTMENT OF AGRICULTURE

Rural Business-Cooperative Service

[Docket No. RBS-20-Business-0028]

Stakeholder Listening Sessions on New Rural Innovation Stronger Economy (RISE) Regulation

AGENCY: Rural Business-Cooperative Service, USDA.

ACTION: Notice.

SUMMARY: The Rural Business-Cooperative Service (RBCS) is hosting three listening sessions for public input about the new Rural Innovation Stronger Economy (RISE) program and regulation. The RISE program will assist rural job accelerator partnerships in improving the ability of distressed rural communities to create high-wage jobs, accelerate the formation of new businesses, and help rural communities identify and maximize local assets. This rule will be published as a direct-final regulation after addressing comments received from the listening sessions and written comments in response to this request for information. RBCS is currently drafting the RISE regulation and requests input on application implementation and project priorities to reach the desired outcomes.

DATES: Listening sessions will be held on: July 28, 2020 at 2pm EDT virtually at https://attendee.gotowebinar.com/register/5379245598321536014.

July 30, 2020 at 2pm EDT virtually at https://attendee.gotowebinar.com/register/2719620429219806478.

ADDRESSES: Comments submitted in response to this notice may be submitted online Via the Federal eRulmaking Portal. Go to http://www.regulations.gov and search for the Docket ID RBS-20-Business-0028. Follow the online instructions for submitting comments. All comments received will be posted without change and will be publicly available on regulations.gov.

FOR FURTHER INFORMATION CONTACT: Will Dodson, Business Loan and Grant Analyst, USDA, Rural Development, STOP 3226 1400 Independence Avenue SW, Washington, DC 20250-3224, telephone (202) 762-0592, email Will.Dodson@usda.gov.

SUPPLEMENTARY INFORMATION:

Overview of RISE

The RISE Program is authorized in Section 6424 of the 2018 Farm Bill (Pub.L. 115-34) as a new grant program. The intent of RISE is to encourage partnerships and development of innovation centers that will provide innovative approaches to developing workforces in rural areas. The program currently proposes the following assistance: grants for the innovation center to establish job accelerators and to establish and support job accelerators and related programs. RISE has two major goals. The first goal includes improving the ability of distressed rural communities to create high-wage jobs, accelerate the formation of new businesses with high-growth potential, and strengthen regional economies, including by helping to build capacity in the applicable region to achieve those goals. The second goal is to help rural communities identify and maximize local assets and connect to regional opportunities, networks, and industry clusters that demonstrate high growth potential. Eligible entities are those comprised of key community and regional stakeholders in a working group that focuses on shared goals and the needs of industry clusters that are identified as existing, emerging, or declining. The partnership must include one or more of the following entities: Indian tribes; institution of higher education; private entity; or government entity. The partnership must also include a lead application from one of the following types of entities: district organization; Indian tribe or consortium of Indian tribes; state and local government or political subdivisions; institution of higher education or a consortium of institutions of higher education; or public or private nonprofit organization.

As per Section 6424 of the Agriculture Improvement Act of 2018, the competitive grant awards will be limited to no greater than 80 percent of the project cost, with a minimum grant amount of $500,000 and a maximum grant of $2,000,000. The grant scope of work period is four years and no more than 10% of the award can be utilized for indirect costs associated with administering the award. Funds may be used for constructing, purchasing, or equipping a building to serve as an innovation center or for program support of a job accelerator which assists the objectives of the jobs accelerator in meeting the requirements of the program.

This notice and listening sessions request information on various portions of the regulation as it is being developed. The public input provided in response to this notice from interested stakeholders will advise RBCS to the RISE program funding priorities and efficient process for program implementation.

Instructions

Response to this notice is voluntary. Each individual or institution is requested to submit only one response as directed in the ADDRESSES section of this notice. Submission must not exceed 10 pages in 12 point or larger font, with a page number provided on each page. Responses should include the name of the person(s) or organization(s) filing the comment. Comments containing references, studies, research, and other empirical data that are not widely published should include copies or electronic links of the referenced materials. Comments containing profanity, vulgarity, threats, or other inappropriate language or content will not be considered. Comments submitted in response to this notice are subject to Freedom of Information Act (FOIA). Responses to this notice may also be posted, without change, on a Federal website.

Therefore, we request that no business proprietary information, copyrighted information, or personally identifiable information be submitted in response to this notice. In accordance with FAR 15-202(3), responses to this notice are not offers and cannot be accepted by the Government to form a binding contract. Additionally, the U.S. Government will not pay for response preparation or for the use of any information contained in the response.

To inform the Federal government's decision-making and establish the Nation's guiding principles in the promotion of the RISE Program, USDA now seeks public input on how U.S. Government action might appropriately support the expansion of a nationwide effort. To that end, responders are specifically requested to answer one or more of the following questions in their submissions. Consortia responses are also encouraged.

1. USDA Rural Development is seeking feedback for the RISE application in terms of required application materials and input to demonstrate how an applicant's proposal meets the objectives of RISE.

2. One of the RISE Program's objectives is to improve the ability of distressed rural communities to create high-wage jobs, accelerate the formation of new businesses with high-growth potential, and strengthen regional economies, including by helping to build capacity in the applicable region to achieve those goals. The Agency is seeking input on how RISE can qualify successful applications in this regard. What are potential successful benchmarks? How should these be evaluated?

3. Another RISE Program objective is to help rural communities identify and maximize local assets. The Agency is seeking input on how RISE can qualify successful applications in this regard. What are potential successful benchmarks? How should these be evaluated?4. Additionally, the RISE Program is authorized to help rural communities connect to regional opportunities, networks, and industry clusters that demonstrate high growth potential. The Agency is seeking input on how RISE can qualify successful applications in this regard. What are potential successful benchmarks?

5. Please provide any suggestions on how USDA, Rural Development should monitor and service the awarded grants, and which emphasis factors should be included in evaluating outcomes of the RISE Program.

6. The RISE Program provides statutory selection criteria including the ability of the partnership to link rural communities to markets, networks, industry clusters and other regional opportunities and assets. How can the Agency quantify this criteria?

7. The RISE Program provides statutory selection criteria including the prospects for the proposed center and related programming to have sustainability beyond the full maximum length of assistance under RISE, i.e. 4 years. How can the Agency quantify this criteria?

8. The RISE Program provides statutory selection criteria, which measures the commitment of participating core stakeholders in the jobs accelerator partnerships, including a demonstration that investment organizations and institutions of higher education, applied research institutions, workforce development entities and community-based organizations are committed. How can the Agency quantify this criteria?

Non-Discrimination Statement

In accordance with Federal civil rights law and U.S. Department of Agriculture (USDA) civil rights regulations and policies, the USDA, its Agencies, offices, and employees, and institutions participating in, or administering, USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at: http://www.ascr.usda.gov/complaint_filing_cust.html and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) Fax: (202) 690-7442; or (3) Email: program.intake@usda.gov.

USDA is an equal opportunity provider, employer, and lender.

Mark Brodziski,
Acting Administrator, Rural Business-Cooperative Service.

[FR Doc. 2020-15821 Filed 7-21-20; 8:45 am]

BILLING CODE 3410-15-P